ENVIRONMENTAL PROTECTION AGENCY

40 CFR Part 180

[EPA-HQ-OPP-2010-1081; FRL-8875-4]

Pesticide Tolerances; Technical Amendments

AGENCY: Environmental Protection Agency (EPA).

ACTION: Final rule.

SUMMARY: EPA has reviewed its pesticide regulations and is making changes in a number of areas. These changes will correct cross-references, remove expired tolerances, “reserve” paragraphs within sections that no longer have any tolerances listed due to the removal of expired tolerances, and remove sections that no longer have any tolerances due to the removal of expired tolerances. These changes have no substantive impact on any requirements. As such, notice and public comment procedures are unnecessary.

DATES: This final rule is effective June 15, 2011.

ADDRESSES: EPA has established a docket for this action under docket identification (ID) number EPA-HQ-OPP-2010-1081. All documents in the docket are listed in the docket index available in http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Andrew Ertman, Registration Division (7505P), Office of Pesticide Programs, Environmental Protection Agency, 1200 Pennsylvania Ave., NW., Washington, DC 20460-0001; telephone number: (703) 308-9367; e-mail address: ertman.andrew@epa.gov.

SUPPLEMENTARY INFORMATION:

I. Does this action apply to me?

You may be potentially affected by this action if you are an agricultural producer, food manufacturer, or pesticide manufacturer. Potentially affected entities may include, but are not limited to those engaged in the following activities:

• Crop production (NAICS code 111).

• Animal production (NAICS code 112).

• Food manufacturing (NAICS code 311).

• Pesticide manufacturing (NAICS code 32532).

This listing is not intended to be exhaustive, but rather to provide a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

II. What does this amendment do?

This amendment makes changes in a number of areas within 40 CFR part 180, subpart C. In several sections within 40 CFR part 180, subpart C, there is a paragraph (c) to address tolerances with regional registrations that incorrectly cross-references 40 CFR 180.1(m) as providing the definition of the phrase “tolerances with regional registrations.” EPA recently made several changes to 40 CFR 180.1 that resulted in a redesignating of the paragraphs in the section, including changing 40 CFR 180.1(m) (defining the term “tolerances with regional registrations”) to 40 CFR 180.1(l). 75 FR 76284 (December 8, 2010) (FRL-8853-8). No amendments were made to the body of 40 CFR 180.1(m). In the same rulemaking that resulted in the redesignating of 40 CFR 180.1(m), EPA should have amended the cross-references to 40 CFR 180.1(m) that appear throughout part 180. That change, however, was inadvertently not done. In this rule, EPA is now correcting that cross-reference wherever it appears in 40 CFR part 180 by changing it from “§ 180.1(m)” to “§ 180.1(l).”

This amendment revises certain sections in 40 CFR part 180, subpart C, to remove those time-limited tolerances that have expired based on the terms set in the tolerance. Since the tolerance is expired, it is no longer effective and should not appear in the regulation.

This amendment reserves those paragraphs within specific sections in 40 CFR part 180, subpart C that no longer have any tolerances listed due to the removal of expired tolerances. In some cases, this also results in some paragraphs being redesignated as well.

This amendment removes those sections in 40 CFR part 180, subpart C that no longer have any tolerances listed due to the removal of expired tolerances.

III. Why is this amendment issued as a final rule?

Section 553 of the Administrative Procedure Act (APA), 5 U.S.C. 553(b)(3)(B), provides that, when an Agency for good cause finds that notice and public procedure are impracticable, unnecessary or contrary to the public interest, the Agency may issue a final rule without providing notice and an opportunity for public comment. EPA has determined that there is good cause for making this amendment final without prior proposal and opportunity for comment, because notice and public comment are unnecessary. EPA is making only technical changes to correct cross-references rendered incorrect by a prior rulemaking, remove expired tolerances, reserve paragraphs within sections, and remove sections for which there are no longer any tolerances. None of these changes have a substantive effect on any requirement, or otherwise impose any new requirement, EPA finds that this constitutes good cause under 5 U.S.C. 553(b)(3)(B).

IV. Do any of the statutory and executive order reviews apply to this action?

This rule makes technical changes to 40 CFR part 180, subpart C to correct cross-references, remove expired tolerances, improve the presentation and format of the regulation, and make other minor, non-substantive improvements to the regulation. Other than clarifying EPA regulations, these amendments are not expected to have any impact on regulated parties or the public because they do not change existing requirements or impose any new requirements. Accordingly, these amendments were not designated a significant regulatory action under Executive Orders 12866 (58 FR 51735, October 4, 1993) and Executive Order 13653 (76 FR 3821, January 21, 2011). Nor does it impose or change any information collection burden that requires additional review by OMB under the provisions of the Paperwork Reduction Act of 1995 (44 U.S.C. 3501 et seq.).

Because the agency has made a “good cause” finding that this action is not subject to notice-and-comment requirements under the Administrative Procedure Act or any other statute (See Unit III.), it is not subject to the regulatory flexibility provisions of the Regulatory Flexibility Act (5 U.S.C. 601 et seq.), or to sections 202 and 205 of the Unfunded Mandates Reform Act of 1995 (UMRA) (2 U.S.C. 1531-1538). In addition, this action does not significantly or uniquely affect small governments or impose a significant inter-governmental mandate, as described in sections 203 and 204 of UMRA.

This rule will not have substantial direct effect on Tribal governments, on the relationship between the Federal Government and Indian Tribes, or on the distribution of power and responsibilities between the Federal Government and Indian Tribes, as specified in Executive Order 13175 (65 FR 67249, November 6, 2000). In addition, the agency has determined that his action will not have a substantial direct effect on States, on the relationship between the national government and the States, or on the distribution of power and responsibilities among the various levels of government, as specified in Executive Order 13132 (64 FR 43255, August 10, 1999).

Since this action is not economically significant under Executive Order 12866, it is not subject to Executive Order 13045 (62 FR 19885, April 23, 1997), and Executive Order 13211 (66 FR 28355, May 22, 2001). Nor does it require any special considerations to address environmental justice under Executive Order 12898 (55 FR 7629, February 16, 1994).

In addition, this action does not involve technical standards that would require the consideration of voluntary consensus standards pursuant to section 12(d) of the National Technology Transfer and Advancement Act (NTTAA) (15 U.S.C. 272).

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of the rule in the Federal Register. This final rule is not a “major rule” as defined by 5 U.S.C. 804(2).

List of Subjects in 40 CFR Part 180

Environmental protection, Administrative practice and procedures, Agricultural commodities, Pesticides and pests, Reporting and recordkeeping requirements.

Dated: June 3, 2011.
Daniel J. Rosenblatt,
Acting Director, Registration Division, Office of Pesticide Programs.

Therefore, 40 CFR chapter I is amended as follows:

PART 180—[AMENDED]

1. The authority citation for part 180 continues to read as follows:

Authority: 21 U.S.C. 321(q), 346a and 371.

§§ 180.106, 180.114, 180.123, 180.142, 180.145, 180.153, 180.169, 180.184, 180.185, 180.191, 180.204, 180.205, 180.222, 180.241, 180.253, 180.259, 180.275, 180.284, 180.291, 180.304, 180.314, 180.330, 180.342, 180.378, 180.399, 180.412, 180.434, 180.447, 180.448, 180.451, 180.503, 180.573, 180.579, 180.587 [Amended]

2. In §§ 180.106, 180.114, 180.123, 180.142, 180.145, 180.153, 180.169, 180.184, 180.185, 180.191, 180.204, 180.205, 180.222, 180.241, 180.253, 180.259, 180.275, 180.284, 180.291, 180.304, 180.314, 180.330, 180.342, 180.378, 180.399, 180.412, 180.434, 180.447, 180.448, 180.451, 180.503, 180.573, 180.579, 180.587, in paragraph (c), remove the reference “§ 180.1 (m)” and add, in its place “§ 180.1 (l)”.

3. In § 180.106, revise paragraph (b) to read as follows:

§ 180.106 Diuron; tolerances for residues.

* * * * *

(b) Section 18 emergency exemptions. [Reserved]

* * * * *

4. In § 180.110, revise paragraph (b) to read as follows:

§ 180.110 Maneb; tolerances for residues.

* * * * *

(b) Section 18 emergency exemptions. [Reserved]

* * * * *

§ 180.145 [Amended]

5. In § 180.145, remove paragraph (a)(2) and redesignate paragraph (a)(3) as paragraph (a)(2).

6. In § 180.190, revise paragraph (d) to read as follows:

§ 180.190 Diphenylamine; tolerances for residues.

* * * * *

(d) Indirect or inadvertent residues. [Reserved]

§ 180.228 [Removed]

7. Remove § 180.228.

8. In § 180.242, revise paragraph (b) to read as follows:

§ 180.242 Thiabendazole; tolerances for residues.

* * * * *

(b) Section 18 emergency exemptions. [Reserved]

* * * * *

9. In § 180.276, revise paragraph (b) to read as follows:

§ 180.276 Formetanate hydrochloride; tolerances for residues.

* * * * *

(b) Section 18 emergency exemptions. [Reserved]

* * * * *

10. In § 180.284, revise paragraph (b) to read as follows:

§ 180.284 Zinc phosphide; tolerances for residues.

* * * * *

(b) Section 18 emergency exemptions. [Reserved]

* * * * *

§ 180.294 [Removed]

11. Remove § 180.294.

§ 180.296 [Removed]

12. Remove § 180.296.

§ 180.312 [Removed]

13. Remove § 180.312.

§ 180.325 [Removed]

14. Remove § 180.325.

15. In § 180.328, in paragraph (a), in the table, remove the commodities Artichoke, globe; Avocado; Fig; Fruit, citrus; Fruit, pome; Fruit, stone; Olive and Pistachio; and revise paragraph (c) to read as follows:

§ 180.328 Napropamide; tolerances for residues.

* * * * *

(c) Tolerances with regional registrations. [Reserved]

* * * * *

§ 180.345 [Amended]

16. In § 180.345, in paragraph (c), remove the reference “40 CFR 180.1(m)” and add, in its place “§ 180.1(l)”.

§ 180.368 [Amended]

17. In § 180.368, in paragraph (c)(1), remove the reference “180.1(m)” and add, in its place “§ 180.1(l)”.

§ 180.377 [Amended]

18. In § 180.377, in paragraph (b), in the table, remove the commodities Wheat, aspirated grain fractions; Wheat, bran; Wheat, flour; Wheat, germ; Wheat, middlings and Wheat, shorts.

§ 180.379 [Removed]

19. Remove § 180.379.

20. Section 180.401 is amended as follows:

a. Add a heading to paragraph (a);

b. Redesignate paragraph (b) as paragraph (c) and add a heading; in newly designated paragraph (c), remove the reference “§ 180.1(m)” and add, in its place “§ 180.1 (l)”; and

c. Add new paragraphs (b) and (d).

The amendments read as follows:

§ 180.401 Thiobencarb; tolerances for residues.

(a) General. * * *

(b) Section 18 emergency exemptions. [Reserved]

(c) Tolerances with regional registrations. * * *

(d) Indirect or inadvertent residues. [Reserved]

§ 180.406 [Removed]

21. Remove § 180.406.

22. In § 180.410, in paragraph (a), in the table, remove the commodities Apple; Apple, wet pomace; Grape and Pear; and revise paragraph (c) to read as follows:

§ 180.410 Triadimefon; tolerances for residues.

* * * * *

(c) Tolerances with regional registrations. [Reserved]

* * * * *

23. In § 180.412, revise paragraph (b) to read as follows:

§ 180.412 Sethoxydim; tolerances for residues.

* * * * *

(b) Section 18 emergency exemptions. [Reserved]

* * * * *

24. In § 180.438, revise paragraph (b) to read as follows:

§ 180.438 Lambda-cyhalothrin and an isomer gamma-cyhalothrin; tolerances for residues.

* * * * *

(b) Section 18 emergency exemptions. [Reserved]

* * * * *

25. In § 180.443, revise paragraph (b) to read as follows:

§ 180.443 Myclobutanil; tolerances for residues.

* * * * *

(b) Section 18 emergency exemptions. [Reserved]

* * * * *

§ 180.450 [Amended]

26. In § 180.450, in paragraph (a), in the table, remove the commodities Sorghum, grain, forage; Sorghum, grain, grain and Sorghum, grain, stover.

§ 180.456 [Removed]

27. Remove § 180.456.

28. In § 180.476, revise paragraph (b) to read as follows:

§ 180.476 Triflumizole; tolerances for residues.

* * * * *

(b) Section 18 emergency exemptions. [Reserved]

* * * * *

29. In § 180.479, revise paragraph (b) to read as follows:

§ 180.479 Halosulfuron-methyl; tolerances for residues.

* * * * *

(b) Section 18 emergency exemptions. [Reserved]

* * * * *

30. In § 180.480, revise paragraph (b) to read as follows:

§ 180.480 Fenbuconazole; tolerances for residues.

* * * * *

(b) Section 18 emergency exemptions. [Reserved]

* * * * *

§ 180.483 [Removed]

31. Remove § 180.483.

32. In § 180.493, revise paragraph (d) to read as follows:

§ 180.493 Dimethomorph; tolerances for residues.

* * * * *

(d) Indirect or inadvertent residues. [Reserved]

33. In § 180.515, revise paragraph (b) to read as follows:

§ 180.515 Carfentrazone-ethyl; tolerances for residues.

* * * * *

(b) Section 18 emergency exemptions. [Reserved]

* * * * *

34. In § 180.544, revise paragraph (d) to read as follows:

§ 180.544 Methoxyfenozide; tolerances for residues.

* * * * *

(d) Indirect or inadvertent residues. [Reserved]

§ 180.549 [Amended]

35. In § 180.549, remove paragraph (a)(2) and redesignate paragraph (a)(1) as paragraph (a).

36. In § 180.561, revise paragraph (b) to read as follows:

§ 180.561 Acibenzolar-S-methyl; tolerances for residues.

* * * * *

(b) Section 18 emergency exemptions. [Reserved]

* * * * *

37. In § 180.571, revise paragraph (b) to read as follows:

§ 180.571 Mesotrione; tolerances for residues.

* * * * *

(b) Section 18 emergency exemptions. [Reserved]

* * * * *

38. In § 180.586, revise paragraph (b) to read as follows:

§ 180.586 Clothianidin; tolerances for residues.

* * * * *

(b) Section 18 emergency exemptions. [Reserved]

* * * * *

[FR Doc. 2011-14569 Filed 6-14-11; 8:45 am]

BILLING CODE 6560-50-P